DEPARTMENT OF THE INTERIOR

Geological Survey

Scientific Earthquake Studies Advisory Committee

AGENCY: U.S. Geological Survey.

ACTION: Notice of meeting.

SUMMARY: Pursuant to Public Law 106-503, the Scientific Earthquake Studies Advisory Committee (SESC) will hold its 16th meeting. The meeting location is the Paso Robles Inn, 1103 Spring Street, Paso Robles, California 93446. The Committee is comprised of members from academia, industry, and State government. The Committee shall advise the Director of the U.S. Geological Survey (USGS) on matters relating to the USGS's participation in the National Earthquake Hazards Reduction Program.

The Committee will receive updates and provide guidance on Earthquake Hazards Program activities and the status of teams supported by the Program, as well as a report from the Advanced National Seismic System steering committee.

Meetings of the Scientific Earthquake Studies Advisory Committee are open to the public.

DATES: September 5, 2007, commencing at 8:30 a.m. and adjourning at 5 p.m.

Contact: Dr. William S. Leith, U.S. Geological Survey, MS 905, 12201 Sunrise Valley Drive, Reston, Virginia 20192, (703) 648-6786, wleith@usgs.gov.

Dated: August 14, 2007.
David Applegate,
Acting Associate Director for Geology.

[FR Doc. 07-4112 Filed 8-21-07; 8:45 am]

BILLING CODE 4311-AM-M